DEPARTMENT OF THE INTERIOR

Bureau of Land Management

43 CFR Part 3809

Fish and Wildlife Service

50 CFR Chapter I

Resubmission of Comments; Interruption of Mail Service

AGENCIES: Fish and Wildlife Service and the Bureau of Land Management, Interior.

ACTION: Resubmission of comments on specific rulemaking documents.

SUMMARY: The Office of the Secretary, along with the Fish and Wildlife Service and the Bureau of Land Management give notice to the public of the opportunity to resubmit comments on specific rulemaking documents. This action is necessitated by the possibility that some comments that were submitted by the public in response to the rulemaking documents may not have been timely received by the identified bureaus due to the shutdown of the Brentwood Postal Facility in Washington, DC, on October 21, 2001. The postal facility was closed because of the threat of anthrax contamination. This action is also necessitated because the Department's Internet access, including receipt of outside e-mail, has been shut down under court order until further notice. Comments which may have been sent to the Department by e-mail since December 4, 2001, have not been received by the Department and should be resubmitted by mail to the addresses specified herein.

DATES: Resubmittal of comments on identified rulemaking documents must be postmarked no later than February 15, 2002.

ADDRESSES: The addresses for the resubmittal of comments are as follows:

• Fish and Wildlife Service, 4401 North Fairfax Drive, Office of Policy, Directives and Management, Arlington, VA 22203, unless otherwise noted.

• Bureau of Land Management, Eastern States Office, 7450 Boston Blvd., Springfield, VA 22153, unless otherwise noted.

FOR FURTHER INFORMATION CONTACT: Duncan L. Brown, Office of the Secretary, Washington, DC 202/208-4582.

SUPPLEMENTARY INFORMATION: The purpose of this document is to allow interested parties the opportunity to resubmit comments they may have sent to the Washington, DC, office of the Fish and Wildlife Service and the Bureau of Land Management on certain identified rulemaking documents. This action is taken due to the closure of the Brentwood Postal Facility, Washington, DC, has caused a delay in the delivery of mail to the Department's Washington, DC, agency addresses. In addition, the Department's Internet access, including receipt of outside e-mail, has been shut down under court order until further notice and comments which were sent by e-mail to the Department by e-mail since December 4, 2001, have not been received by the Department. To guarantee the collection of all responsive comments, the Department has decided that it will extend to interested parties the opportunity to resubmit their written comments on the identified rulemaking documents to the agency addresses identified in the ADDRESSES section of this document. The affected rulemaking documents are identified as follows:

Proposed Rulemaking Documents

FWS Migratory Bird Hunting—Light Goose Populations—Correction, RIN 1018-AI07

FWS Proposed Critical Habitat—3 S.Cal. Coastal Plants, RIN 1018-AG88

FWS Proposed Critical Habitat—Purple Amole, RIN 1018-AG75

FWS Proposed Critical Habitat—Sant Cruz Tarplant, RIN 1018-AG73

FWS Listing Showy Stickweed as Endangered—Reopening of Comments, RIN 1018-AF75

FWS Revised List of Migratory Birds—Proposed Rule, RIN 1018-AB72

FWS Rota Bridled White-eye Listing as Endangered, RIN 1018-AI16

FWS Kneeland Prairie Penny-cress Critical Habitat—Proposed Rule, RIN 1018-AG92

FWS Sacramento Mtns. Checkerspot Butterfly—Reopening of Comment Period/Public Hearing, RIN 1018-AH40

FWS Managing Harvest of Light Goose Populations—Proposed Rule, RIN 1018-AI07

FWS Reopening of Comment Period and Availability of Draft EIS for Monterey Spineflower Critical Habitat Determination, RIN 1018-AH04

FWS Reopening of Comment Period and Availability of Draft EA for Robust Spineflower Critical Habitat Determination, RIN 1018-AH83

FWS Reopening of Comment Period and Availability of Draft EA for Scotts Valley Spineflower Critical Habitat Determination, FIN 1018-AH82

FWS Endangered Status for the Sacramento Mtns. Checkerspot Butterfly—Proposed Rule, RIN 1018-AH40

FWS Migratory Bird Hunting—Proposed Migratory Bird Hunting Regulations, RIN 1018-AH79

BLM Proposed Rule—Mining Claims Under the General Mining Laws; Surface Management (43 CFR part 3809), RIN 1004-AD44

Dated: January 15, 2002.
P. Lynn Scarlett,
Assistant Secretary—Policy Management and Budget.

[FR Doc. 02-1917 Filed 1-31-02; 8:45 am]

BILLING CODE 4310-RK-M